DEPARTMENT OF COMMERCE

International Trade Administration

[A-433-812]

Certain Carbon and Alloy Steel Cut-To-Length Plate From Austria: Final Results of the Antidumping Duty Administrative Review; 2016-2018

AGENCY: Enforcement and Compliance, International Trade Administration, Department of Commerce.

SUMMARY: The Department of Commerce (Commerce) finds that sales of certain carbon and alloy steel cut-to-length plate (CTL plate) from Austria were made at less than normal value during the period of review (POR) November 14, 2016 through April 30, 2018.

DATES: Applicable December 13, 2019.

FOR FURTHER INFORMATION CONTACT: Preston N. Cox, AD/CVD Operations, Office VI, Enforcement and Compliance, International Trade Administration, U.S. Department of Commerce, 1401 Constitution Avenue NW, Washington, DC 20230; telephone: (202) 482-5041.

SUPPLEMENTARY INFORMATION:

Background

This review covers voestalpine Bohler Edelstahl GmbH & Co KG (vaBEG) and voestalpine Bohler Bleche GmbH & Co KG (vaBBG) (affiliated producers/exporters of the subject merchandise) and their non-exporting affiliates, voestalpine High Performance Metals International GmbH (vaHPMI), voestalpine Grobblech GmbH (Grobblech), and voestalpine Steel & Service Center GmbH (SSC) (collectively, voestalpine).¹ Commerce published the Preliminary Results on June 13, 2019 and invited interested parties to comment.² On July 17, 2019, Commerce received a case brief from voestalpine.³ On July 24, 2019, Commerce received a rebuttal brief from SSAB Enterprises LLC (the petitioner).⁴ For a further discussion of events subsequent to the Preliminary Results, see the Issues and Decision Memorandum.⁵ Commerce conducted this administrative review in accordance with section 751 of the Tariff Act of 1930, as amended (the Act).

¹ Commerce continues to find that vaBEG, vaBBG, and vaHPMI are the successors-in-interest to Bohler Edelstahl GmbH & Co KG (BEG), Bohler Bleche GmbH & Co KG (BBG), and Bohler International GmbH (BIG), respectively. Additionally, Commerce has determined to collapse, and treat as a single entity, vaBEG, vaBBG, and their affiliated companies vaHPMI, Grobblech, and SSC (collectively, voestalpine). For a discussion of this analysis, see Memorandum, “Analysis Memorandum for voestalpine Companies in the Final Results of the 2016-2018 Administrative Review of the Antidumping Duty Order on Certain Carbon and Alloy Steel Cut-to-Length Plate from Austria,” dated concurrently with this memorandum (voestalpine Final Analysis Memorandum); see also Memorandum, “Decision Memorandum for the Preliminary Results of the 2016-2018 Administrative Review of the Antidumping Duty Order on Certain Carbon and Alloy Steel Cut-To-Length Plate from Austria,” dated June 7, 2019.

² See Certain Carbon and Alloy Steel Cut-to-Length Plate From Austria: Preliminary Results of the Antidumping Duty Administrative Review; 2016-2018, 84 FR 27583 (June 13, 2019) (Preliminary Results), and accompanying Preliminary Decision Memorandum.

³ See voestalpine's Letter, “Antidumping Duty Administrative Review of Certain Carbon and Alloy Steel Cut-To-Length Plate from Austria: voestalpine Case Brief,” dated July 17, 2019.

⁴ See Petitioner's Letter, “Certain Carbon and Alloy Steel Cut-To-Length Plate from Austria: Rebuttal Brief,” dated July 24, 2019.

⁵ See Memorandum, “Issues and Decision Memorandum for the Final Results of the Administrative Review of the Antidumping Duty Order on Certain Carbon and Alloy Steel Cut-To-Length Plate from Austria; 2016-2018,” dated concurrently with, and hereby adopted by, this notice (Issues and Decision Memorandum).

On October 8, 2019, Commerce extended the deadline for the final results by 60 days.⁶ Accordingly, the deadline for the final results is now December 10, 2019.

⁶ See Memorandum, “Certain Carbon and Alloy Steel Cut-To-Length Plate from Austria: Extension of Deadline for Final Results of Antidumping Duty Administrative Review; 2016-2018,” dated October 8, 2019.

Scope of the Order

The product covered by the scope of the order is CTL plate from Austria. For a complete description of the scope of the order, see the Issues and Decision Memorandum.⁷

⁷ See Issues and Decision Memorandum at 2-7.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov, and to all parties in the Central Records Unit, room B8024, of the main Commerce building. In addition, a complete version of the Issues and Decision Memorandum can be accessed at https://enforcement.trade.gov/frn/index.html. The signed and the electronic versions of the Issues and Decision Memorandum are identical in content.

Changes Since the Preliminary Results

Based on a review of the record and comments received from interested parties regarding our Preliminary Results, we made certain changes to the preliminary weighted-average margin for voestalpine.⁸ Specifically, we applied a level of trade (LOT) adjustment to voestalpine's normal value (NV) only where export price (EP) sales were made at a different LOT than home-market sales, and we applied a constructed export price (CEP) offset to NV for comparisons to all CEP sales. Furthermore, we made certain adjustments to voestalpine's selling and financial expenses.

⁸ See Issues and Decision Memorandum at 7-9; see also voestalpine Final Analysis Memorandum.

Final Results of the Administrative Review

As a result of this review, Commerce determines that the following weighted-average dumping margin exists for the period November 14, 2016 through April 30, 2018:

Exporter/producer | Weighted-average dumping margin (percent)
voestalpine Bohler Edelstahl GmbH & Co KG | 41.19
voestalpine Bohler Bleche GmbH & Co KG |
voestalpine High Performance Metals International GmbH |
voestalpine Grobblech GmbH voestalpine Steel & Service Center GmbH |

Disclosure of Calculations

We intend to disclose the calculations performed for these final results within five days of the date of publication of this notice to parties in this proceeding, in accordance with 19 CFR 351.224(b).

Assessment Rates

Pursuant to section 751(a)(2)(C) of the Act and 19 CFR 351.212(b)(1), Commerce has determined, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

Commerce's “reseller policy” will apply to entries of subject merchandise during the POR produced by voestalpine for which voestalpine did not know that the merchandise it sold to the intermediary (e.g., a reseller, trading company, or exporter) was destined for the United States. In such instances, we will instruct CBP to liquidate unreviewed entries at the all-others rate if there is no rate for the intermediate company(ies) involved in the transaction.⁹

⁹ For a full discussion of this practice, see Antidumping and Countervailing Duty Proceedings: Assessment of Antidumping Duties, 68 FR 23954 (May 6, 2003).

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2) of the Act: (1) The cash deposit rate for voestalpine will be equal to the weighted-average dumping margin established in the final results of this review; (2) for merchandise exported by companies not covered in this review but covered in a prior segment of this proceeding, the cash deposit will continue to be the company-specific rate published for the most recently completed segment of this proceeding in which the company participated; (3) if the exporter is not a firm covered in this review or the original investigation, but the producer is, then the cash deposit rate will be the rate established for the most recently completed segment for the producer of the subject merchandise; and (4) the cash deposit rate for all other producers or exporters will continue to be 28.57 percent, the all-others rate established in the less-than-fair-value investigation.¹⁰ These cash deposit requirements, when imposed, shall remain in effect until further notice.

¹⁰ See Certain Carbon and Alloy Steel Cut-To-Length Plate From Austria: Final Determination of Sales at Less Than Fair Value and Final Affirmative Determination of Critical Circumstances, 82 FR 16366 (April 4, 2017), revised in Certain Carbon and Alloy Steel Cut-to-Length Plate From Austria: Notice of Court Decision Not in Harmony With Final Determination in Less Than Fair Value Investigation and Notice of Amended Final Determination and Order Pursuant to Court Decision, 84 FR 7344 (March 4, 2019).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: December 9, 2019.
Jeffrey I. Kessler,
Assistant Secretary for Enforcement and Compliance.

Appendix

List of Topics Discussed in the Issues and Decision Memorandum

I. Summary

II. Background

III. Scope of the Order

IV. Changes From the Preliminary Results

V. Discussion of the Issues

Comment 1: LOT Adjustments and CEP Offsets

Comment 2: Revisions to Selling Expenses and Financial Expenses

Comment 3: Major-Input Adjustment

VI. Recommendation

[FR Doc. 2019-26948 Filed 12-12-19; 8:45 am]

BILLING CODE 3510-DS-P